DEPARTMENT OF TRANSPORTATION

Office of the Secretary

Notice of Applications for Certificates of Public Convenience and Necessity and Foreign Air Carrier Permits Filed Under Subpart B (Formerly Subpart Q) During the Week Ending August 10, 2001.

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period, DOT may process the application by expedited procedures. Such procedures may consist of the adoption of a show-cause order, a tentative order, or in appropriate cases a final order without further proceedings.

Docket Number: OST-2001-10350.

Date Filed: August 6, 2001.

Due Date for Answers, Conforming Applications, or Motion to Modify Scope: August 27, 2001.

Description: Application of Vega Airlines Ltd., pursuant to 49 U.S.C. 41302, et seq., and Subpart B, requesting a foreign air carrier permit authorizing it to engage in charter foreign air transportation of property and mail between a point or points in Bulgaria and a point or points in the United States. Vega Airlines also requests authority to conduct Fifth Freedom cargo charter flights between the United States and points in third countries, to the extent permitted under 14 CFR part 212 and Department policy.

Docket Number: OST-1996-1389.

Date Filed: August 10, 2001.

Due Date for Answers, Conforming Applications, or Motion to Modify Scope: August 31, 2001.

Description: Application of United Air Lines, Inc., pursuant to 49 U.S.C. 41101, 14 CFR part 201, and 14 CFR part 302, Subpart B, requesting renewal of its certificate of public convenience and necessity for Route 603, Segment 6, to engage in scheduled foreign air transportation of persons, property and mail between Washington, DC and Madrid, Barcelona, Malaga, and Palma de Mallorca, Spain, via the intermediate points the Azores and Lisbon, Portugal.

Andrea Jenkins,
Federal Register Liaison.

[FR Doc. 01-21722 Filed 8-27-01; 8:45 am]

BILLING CODE 4910-62-P